DEPARTMENT OF AGRICULTURE

Natural Resources Conservation Service

Proposed Change to the Natural Resources Conservation Service's National Handbook of Conservation Practices

AGENCY: Natural Resources Conservation Service (NRCS), U.S. Department of Agriculture, Pennsylvania State Office.

ACTION: Notice of availability of proposed changes in Section IV of the Pennsylvania State NRCS Field Office Technical Guide (FOTG) for review and comment.

SUMMARY: It is the intention of NRCS in Pennsylvania to issue a series of new and revised conservation practice standards in its Technical Guide. These draft standards include the following:

Conservation Crop Rotation (Acre)—Standard Code 328—Draft (9/2000) Residue Management: No Till/Strip Till (Acre)—Standard Code 329A—Draft (9/2000)

Residue Management: Mulch Till (Acre)—Standard Code 329B—Draft (9/2000)

Residue Management Ridge Till (Acre)—Standard Code 329C—Draft (9/2000)

Contour Farming (Acre)—Standard Code 330—Draft (11/2000)

Contour Buffer Strips (Acre)—Standard Code 332—Draft (11/2000)

Cover Cropping (Acre)—Standard Code 340—Draft (12/2000)

Residue Management: Seasonal (Acre)—Standard Code 344—Draft (9/2000)

Filter Strip (Acre)—Standard Code 393—Draft (9/2000)

Contour Stripcropping (Acre)—Standard Code 585—Draft (11/2000)

Nutrient Management (Acre)—Standard Code 590—Draft (9/2000)

Waste Utilization (Acre)—Standard Code 633—Draft (9/2000)

Conservation Cover (Acre)—Standard Code 327 (10/2000)

DATES: Comments will be received on or before February 12, 2001.

FOR FURTHER INFORMATION CONTACT: Inquire in writing to Janet L. Oertly, State Conservationist, USDA-Natural Resources Conservation Service, Suite 340, One Credit Union Place, Harrisburg, Pennsylvania 17110-2993, telephone (717) 237-2202; fax (717) 237-2238.

Copies of these draft practice standards are made available electronicallly on the Pennsylvania Natural Resources Conservation Service (NRCS) website at www.pa.nrcs.usda.gov. Click on the “Conservation Practices for Review” button to access the draft practice standards.

SUPPLEMENTARY INFORMATION: Section 343 of the Federal Agricultural Improvement and Reform Act of 1996 states that revisions made after the enactment of the law to NRCS State technical guides used to carry out highly erodible land and wetland provisions of the law shall be made available for public review and comment. For the next 30 days, the NRCS in Pennsylvania will receive comments relative to the proposed changes. Following that period a determination will be made by the NRCS in Pennsylvania regarding disposition of those comments and a final determination of change will be made.

Dated: December 28, 2000.
Roger F. Hager,
Supervisory Contract Specialist, USDA—Natural Resources Conservation Service.

[FR Doc. 01-1004 Filed 1-11-01; 8:45 am]

BILLING CODE 3410-16-U